SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: November 1-30, 2015.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued Under 18 CFR 806.22(f)

1. Seneca Resources Corporation, Pad ID: Gamble Pad J, ABR-201511001, Gamble Township, Lycoming County, Pa.; Consumptive Use of Up to 4.0000 mgd; Approval Date: November 6, 2015.

2. Seneca Resources Corporation, Pad ID: Gamble Pad I, ABR-201511002, Gamble Township, Lycoming County, Pa.; Consumptive Use of Up to 4.0000 mgd; Approval Date: November 6, 2015.

3. EQT Production Company, Pad ID: Phoenix B, ABR-201511003, Morris Township, Tioga County, Pa.; Consumptive Use of Up to 3.0000 mgd; Approval Date: November 6, 2015.

4. Cabot Oil & Gas Corporation, Pad ID: MyersR P1, ABR-201511004, Lathrop Township, Susquehanna County, Pa.; Consumptive Use of Up to 4.2500 mgd; Approval Date: November 6, 2015.

5. Chesapeake Appalachia, LLC, Pad ID: Gary, ABR-201012019.R1, Rush Township, Susquehanna County, Pa.; Consumptive Use of Up to 7.5000 mgd; Approval Date: November 9, 2015.

6. Chesapeake Appalachia, LLC, Pad ID: Roland, ABR-201012021.R1, Wilmot Township, Bradford County, Pa.; Consumptive Use of Up to 7.5000 mgd; Approval Date: November 9, 2015.

7. Chesapeake Appalachia, LLC, Pad ID: Kinnarney, ABR-201012030.R1, Albany Township, Bradford County, Pa.; Consumptive Use of Up to 7.5000 mgd; Approval Date: November 9, 2015.

8. EOG Resources, Inc., Pad ID: Rightmire 1H Pad, ABR-201008082.R1, Ridgebury Township, Bradford County, Pa.; Consumptive Use of Up to 4.9990 mgd; Approval Date: November 9, 2015.

9. EOG Resources, Inc., Pad ID: RIGHTMIRE 2H Pad, ABR-201008083.R1, Ridgebury Township, Bradford County, Pa.; Consumptive Use of Up to 4.9990 mgd; Approval Date: November 9, 2015.

10. EOG Resources, Inc., Pad ID: WENGER Pad, ABR-201008118.R1, Springfield Township, Bradford County, Pa.; Consumptive Use of Up to 4.9990 mgd; Approval Date: November 9, 2015.

11. EOG Resources, Inc., Pad ID: STURDEVANT 1H, ABR-201008155.R1, Ridgebury Township, Bradford County, Pa.; Consumptive Use of Up to 4.9990 mgd; Approval Date: November 9, 2015.

12. EOG Resources, Inc., Pad ID: OBERKAMPER Pad, ABR-201009004.R1, Springfield Township, Bradford County, Pa.; Consumptive Use of Up to 4.9990 mgd; Approval Date: November 9, 2015.

13. SWEPI LP, Pad ID: Hotchkiss 472, ABR-201009045.R1, Charleston Township, Tioga County, Pa.; Consumptive Use of Up to 4.0000 mgd; Approval Date: November 9, 2015.

14. SWEPI LP, Pad ID: Williams 889, ABR-201009051.R1, Deerfield Township, Tioga County, Pa.; Consumptive Use of Up to 4.0000 mgd; Approval Date: November 9, 2015.

15. SWEPI LP, Pad ID: Klettlinger 294, ABR-201009054.R1, Delmar Township, Tioga County, Pa.; Consumptive Use of Up to 4.0000 mgd; Approval Date: November 9, 2015.

16. SWEPI LP, Pad ID: Kindon 374, ABR-201010002.R1, Union Township, Tioga County, Pa.; Consumptive Use of Up to 4.0000 mgd; Approval Date: November 9, 2015.

17. Cabot Oil & Gas Corporation, Pad ID: RomeikaJ P1, ABR-201511005, Gibson Township, Susquehanna County, Pa.; Consumptive Use of Up to 4.2500 mgd; Approval Date: November 13, 2015.

18. Chesapeake Appalachia, LLC, Pad ID: Franclaire, ABR-201012011.R1, Braintrim Township, Wyoming County, Pa.; Consumptive Use of Up to 7.5000 mgd; Approval Date: November 13, 2015.

19. Chesapeake Appalachia, LLC, Pad ID: SGL 289A, ABR-201012015.R1, West Burlington Township, Bradford County, Pa.; Consumptive Use of Up to 7.5000 mgd; Approval Date: November 13, 2015.

20. Chesapeake Appalachia, LLC, Pad ID: Baltzley, ABR-201012020.R1, Rush Township, Susquehanna County, Pa.; Consumptive Use of Up to 7.5000 mgd; Approval Date: November 13, 2015.

21. SWEPI LP, Pad ID: Wolfe 1114, ABR-201007098.R1, Nelson Township, Tioga County, Pa.; Consumptive Use of Up to 4.0000 mgd; Approval Date: November 13, 2015.

22. SWEPI LP, Pad ID: Fish 826, ABR-201009027.R1, Middlebury Township, Tioga County, Pa.; Consumptive Use of Up to 4.0000 mgd; Approval Date: November 13, 2015.

23. SWEPI LP, Pad ID: Guindon 706, ABR-201009029.R1, Union Township, Tioga County, Pa.; Consumptive Use of Up to 4.0000 mgd; Approval Date: November 13, 2015.

24. SWEPI LP, Pad ID: Byrne 510, ABR-201009059.R1, Rutland Township, Tioga County, Pa.; Consumptive Use of Up to 4.0000 mgd; Approval Date: November 13, 2015.

25. SWEPI LP, Pad ID: Ingalls 710, ABR-201009080.R1, Liberty Township, Tioga County, Pa.; Consumptive Use of Up to 4.0000 mgd; Approval Date: November 13, 2015.

26. SWEPI LP, Pad ID: Smith 589, ABR-201009088.R1, Richmond Township, Tioga County, Pa.; Consumptive Use of Up to 4.0000 mgd; Approval Date: November 13, 2015.

27. SWEPI LP, Pad ID: Martin 421, ABR-201009089.R1, Delmar Township, Tioga County, Pa.; Consumptive Use of Up to 4.0000 mgd; Approval Date: November 13, 2015.

28. SWEPI LP, Pad ID: Schimmel 830, ABR-201009090.R1, Farmington Township, Tioga County, Pa.; Consumptive Use of Up to 4.0000 mgd; Approval Date: November 13, 2015.

29. SWEPI LP, Pad ID: Lopatofsky 287, ABR-201009091.R1, Charleston Township, Tioga County, Pa.; Consumptive Use of Up to 4.0000 mgd; Approval Date: November 13, 2015.

30. SWEPI LP, Pad ID: Worden 571, ABR-201009092.R1, Charleston Township, Tioga County, Pa.; Consumptive Use of Up to 4.0000 mgd; Approval Date: November 13, 2015.

31. Talisman Energy USA Inc., Pad ID: 05 035 Antisdel, ABR-201009015.R1, Warren and Windham Townships, Bradford County, Pa.; Consumptive Use of Up to 6.0000 mgd; Approval Date: November 13, 2015.

32. Talisman Energy USA Inc., Pad ID: 05 036 Antisdel, ABR-201009016.R1, Warren Township, Bradford County, Pa.; Consumptive Use of Up to 6.0000 mgd; Approval Date: November 13, 2015.

33. SWN Production Company, LLC, Pad ID: TI-14 Connolly A Pad, ABR-201511006, Liberty Township, Tioga County, Pa.; Consumptive Use of Up to 4.9990 mgd; Approval Date: November 16, 2015.

34. SWN Production Company, LLC, Pad ID: TI-19 Connolly B Pad, ABR-201511007, Liberty Township, Tioga County, Pa.; Consumptive Use of Up to 4.9990 mgd; Approval Date: November 16, 2015.

35. SWN Production Company, LLC, Pad ID: TI-22 Creek A—Pad, ABR-201511008, Liberty Township, Tioga County, Pa.; Consumptive Use of Up to 4.9990 mgd; Approval Date: November 16, 2015.

36. Cabot Oil & Gas Corporation, Pad ID: JHHC P1, ABR-201511009, Jessup Township, Susquehanna County, Pa.; Consumptive Use of Up to 4.2500 mgd; Approval Date: November 16, 2015.

37. Carrizo Marcellus, LLC, Pad ID: Yarasavage Well Pad, ABR-201102021.R1, Washington Township, Wyoming County, Pa.; Consumptive Use of Up to 2.1000 mgd; Approval Date: November 23, 2015.

38. Carrizo Marcellus, LLC, Pad ID: Kile, ABR-201103026.R1, Washington Township, Wyoming County, Pa.; Consumptive Use of Up to 2.1000 mgd; Approval Date: November 23, 2015.

39. Carrizo Marcellus, LLC, Pad ID: Mazzara, ABR-201103035.R1, Washington Township, Wyoming County, Pa.; Consumptive Use of Up to 2.1000 mgd; Approval Date: November 23, 2015.

40. Carrizo Marcellus, LLC, Pad ID: Baker West (Brothers), ABR-201103049.R1, Forest Lake Township, Susquehanna County, Pa.; Consumptive Use of Up to 2.1000 mgd; Approval Date: November 23, 2015.

41. Energy Corporation of America, Pad ID: Whitetail #1-5MH, ABR-201008112.R1, Goshen and Girard Townships, Clearfield County, Pa.; Consumptive Use of Up to 5.0000 mgd; Approval Date: November 23, 2015.

42. Energy Corporation of America, Pad ID: Coldstream Affiliates #1MH, ABR-201007051.R1, Goshen Township, Clearfield County, Pa.; Consumptive Use of Up to 5.0000 mgd; Approval Date: November 23, 2015.

43. Enerplus Resources (USA) Corporation, Pad ID: Winner 4H, ABR-201009094.R1, West Keating Township, Clinton County, Pa.; Consumptive Use of Up to 4.0000 mgd; Approval Date: November 23, 2015.

44. EOG Resources, Inc., Pad ID: GHC Pad A, ABR-201009012.R1, Lawrence Township, Clearfield County, Pa.; Consumptive Use of Up to 4.9990 mgd; Approval Date: November 23, 2015.

45. EOG Resources, Inc., Pad ID: COP Pad P, ABR-201009038.R1, Lawrence Township, Clearfield County, Pa.; Consumptive Use of Up to 4.9990 mgd; Approval Date: November 23, 2015.

46. EOG Resources, Inc., Pad ID: SSHC Pad A, ABR-201009055.R1, Lawrence Township, Clearfield County, Pa.; Consumptive Use of Up to 4.9990 mgd; Approval Date: November 23, 2015.

Authority: Pub. L. 91-575, 84 Stat. 1509 et seq., 18 CFR parts 806, 807, and 808.

Dated: December 14, 2015.
Stephanie L. Richardson,
Secretary to the Commission.

[FR Doc. 2015-31747 Filed 12-16-15; 8:45 am]

BILLING CODE 7040-01-P